DEPARTMENT OF THE TREASURY

Submission for OMB Review; Comment Request

November 7, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue NW., Suite 11010, Washington, DC 20220.

Dates: Written comments should be received on or before December 14, 2011 to be assured of consideration.

Alcohol and Tobacco Tax and Trade Bureau (TTB)

OMB Number: 1513-0092.

Type of Review: Extension without change of a currently approved collection.

Title: Marks on Wine Containers, TTB REC 5120/3.

Abstract: TTB requires that wine on wine premises be identified by statements of information on labels or contained in marks. TTB uses this information to validate the receipts of excise tax revenue by the Federal government.

Respondents: Private Sector: Businesses or other for-profits.

Estimated Total Burden Hours: 1.

OMB Number: 1513-0119.

Type of Review: Extension without change of a currently approved collection.

Title: Certification of Proper Cellar Treatment for Imported Natural Wine.

Abstract: TTB is requiring importers of natural wine to certify compliance with proper cellar treatment standards. This certification is necessary to comply with statutory requirements.

Respondents: Private Sector: Businesses or other for-profits.

Estimated Total Burden Hours: 6,600.

Clearance Officer: Gerald Isenberg, Alcohol and Tobacco Tax and Trade Bureau, Room 200 East, 1310 G Street NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-29195 Filed 11-10-11; 8:45 am]

BILLING CODE 4810-31-P